DEPARTMENT OF HOMELAND SECURITY

[Docket No. DHS-2017-0037]

Chemical Facility Anti-Terrorism Standards Personnel Surety Program

AGENCY: National Protection and Programs Directorate (NPPD), Department of Homeland Security (DHS).

ACTION: 60-Day notice and request for comments; revision of information collection request: 1670-0029.

SUMMARY: The DHS NPPD Office of Infrastructure Protection (IP), Infrastructure Security Compliance Division (ISCD) will submit the following Information Collection Request to the Office of Management and Budget (OMB) for review and clearance in accordance with the Paperwork Reduction Act of 1995. The purpose of this notice is to solicit comments during a 60-day public comment period prior to the submission of this ICR to OMB. The submission describes the nature of the information collection, the categories of respondents, the estimated burden (in hours), and the estimated burden cost necessary to implement the Chemical Facility Anti-Terrorism Standards (CFATS) Personnel Surety Program. In this notice, DHS is updating the burden estimate and expanding the collection to include Tier 3 and Tier 4 high-risk chemical facilities.

DATES: Comments are encouraged and will be accepted until February 26, 2018.

ADDRESSES: You may submit comments, identified by docket number DHS-2017-0037, by one of the following methods:

• Federal eRulemaking Portal: http://www.regulations.gov. Please follow the instructions for submitting comments.

• Email: cfats@dhs.gov. Please include docket number DHS-2017-0037 in the subject line of the message.

• Mail: Written comments and questions about this Information Collection Request should be forwarded to DHS/NPPD/IP/ISCD, ATTN: 1670-0029, 245 Murray Lane SW, Mail Stop 0610, Arlington, VA 20528-0610.

Instructions: All submissions received must include the words “Department of Homeland Security” and docket number DHS-2017-0059. Comments received will be posted without alteration at http://www.regulations.gov, including any personal information provided.

Comments that include trade secrets, confidential commercial or financial information, Chemical-terrorism Vulnerability Information (CVI),¹ Sensitive Security Information (SSI),² or Protected Critical Infrastructure Information (PCII) ³ should not be submitted to the public regulatory docket. Please submit such comments separately from other comments in response to this notice. Comments containing trade secrets, confidential commercial or financial information, CVI, SSI, or PCII should be appropriately marked and packaged in accordance with applicable requirements and submitted by mail to the DHS/NPPD/IP/ISCD CFATS Program Manager at the Department of Homeland Security, 245 Murray Lane SW, Mail Stop 0610, Arlington, VA 20528-0610. Comments must be identified by docket number DHS-2017-0037.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: For specific questions related to collection activities, please contact Amy Graydon at (866)323-2957 or at cfats@dhs.gov.

SUPPLEMENTARY INFORMATION: On December 18, 2014, the President signed into law the Protecting and Securing Chemical Facilities from Terrorist Attacks Act of 2014 (“CFATS Act of 2014”) providing long-term authorization for the CFATS program. The CFATS Act of 2014 codified the DHS authority to implement the CFATS program into the Homeland Security Act of 2002. See 6 U.S.C. 621 et seq.

Section 550 of the Department of Homeland Security Appropriations Act of 2007, Public Law 109-295 (2006) (“Section 550”), provided (and the CFATS Act of 2014 continues to provide) the Department with the authority to identify and regulate the security of high-risk chemical facilities using a risk-based approach. On April 9, 2007, the Department issued the CFATS Interim Final Rule (IFR), implementing this statutory mandate. See 72 FR 17688.

Section 550 required (and the CFATS Act of 2014 continues to require) that the Department establish risk-based performance standards (RBPS) for high-risk chemical facilities. Through the CFATS regulations, the Department promulgated 18 RBPS. Each chemical facility that has been finally determined by the Department to be high-risk must submit, for Department approval, a Site Security Plan (SSP) or an Alternative Security Program (ASP), whichever the high-risk chemical facility so chooses, that satisfies each applicable RBPS. RBPS 12 requires high-risk chemical facilities to perform appropriate background checks on and ensure appropriate credentials for facility personnel, and, as appropriate, unescorted visitors with access to restricted areas or critical assets. RBPS 12(iv) specifically requires high-risk chemical facility to implement measures designed to identify people with terrorist ties. For the purposes of the CFATS Personnel Surety Program, `people' in RBPS 12(iv) is in reference to affected individuals (i.e., facility personnel or unescorted visitors with or seeking access to restricted areas or critical assets at high-risk chemical facilities).

Identifying affected individuals who have terrorist ties is an inherently governmental function and requires the use of information held in government-maintained databases that are unavailable to high-risk chemical facilities. See 72 FR 17688, 17709 (April 9, 2007). Thus, under RBPS 12(iv), the Department and high-risk chemical facilities must work together to satisfy the “terrorist ties” aspect of the Personnel Surety performance standard.

In accordance with the Homeland Security Act of 2002 as amended by the Protecting and Securing Chemical Facilities from Terrorist Attacks Act of 2014, Public Law 113-254, the following options are available to enable high-risk chemical facilities to facilitate the vetting of affected individuals for terrorist ties:

Option 1. High-risk chemical facilities may submit certain information about affected individuals, which the Department will use to vet those individuals for terrorist ties. Specifically, the identifying information about affected individuals will be compared against identifying information of known or suspected terrorists contained in the Federal Government's consolidated and integrated terrorist watch list, the Terrorist Screening Database (TSDB), which is maintained by the Department of Justice (DOJ) Federal Bureau of Investigation (FBI) in the Terrorist Screening Center (TSC).⁴

⁴ For more information about the TSDB, see DOJ/FBI-019 Terrorist Screening Records System, last published in full as 77 FR 26580 (May 25, 2017).

Option 2. High-risk chemical facilities may submit information about affected individuals who already possess certain credentials or documentation that rely on security threat assessments conducted by the Department. This will enable the Department to verify the continuing validity of these credentials or documentation.

Option 3. High-risk chemical facilities may comply with RBPS 12(iv) without submitting to the Department information about affected individuals who possess Transportation Worker Identification Credentials (TWICs), if a high-risk chemical facility electronically verifies and validates the affected individual's TWICs through the use of TWIC readers (or other technology that is periodically updated using the Canceled Card List).

Option 4. High-risk chemical facilities may visually verify certain credentials or documents that are issued by a Federal screening program that periodically vets enrolled individuals against the TSDB. The Department continues to believe that visual verification has significant security limitations and, accordingly, encourages high-risk chemical facilities choosing this option to identify in their SSPs the means by which they plan to address these limitations.

In addition to the options described above for satisfying RBPS 12(iv), a high-risk chemical facility is welcome to propose alternative or supplemental options in its SSP that are not described in this document. The Department will assess the adequacy of such alternative or supplemental options on a facility-by-facility basis in the course of evaluating each facility's SSP.

Under Option 3 and Option 4, a high-risk chemical facility would not need to submit information about an affected individual to the Department. These Options are only mentioned in this notice for informational purposes, and there will be no analysis of Option 3 and Option 4 in this information collection request.

This information collection request does not propose changes to who qualifies as an affected individual. There are certain groups of persons that the Department does not consider to be affected individuals, such as (1) Federal officials that gain unescorted access to restricted areas or critical assets as part of their official duties; (2) State and local law enforcement officials that gain unescorted access to restricted areas or critical assets as part of their official duties; and (3) emergency responders at the State or local level that gain unescorted access to restricted areas or critical assets during emergency situations.

The current information collection for CFATS Personnel Surety Program (IC 1670-0029) will expire on August 31, 2018.⁵

⁵ The current information collection for CFATS Personnel Surety Program may be found at https://www.reginfo.gov/public/do/PRAViewICR?ref_nbr=201312-1670-001.

Summary of Proposed Revisions to the Information Collection

The Department is seeking a revision to the CFATS Personnel Surety Program Information Collection to: (1) Obtain approval to collect information about affected individuals from all high-risk chemical facilities rather than only Tier 1 and Tier 2 high-risk chemical facilities; (2) update the estimated number of annual respondents from 195,000 to 72,607 based on historical information collected since the Department implemented the CFATS Personnel Surety Program; and (3) update the estimated time per respondent from 0.58 hours to 0.1667 hours based upon historical data collected by the Department since the implantation of the CFATS Personnel Surety Program.

Collection at all High-Risk Chemical Facilities

In response to multiple comments on the current ICR, the Department agreed to a “phased implementation” of the CFATS Personnel Surety Program to Tier 1 and Tier 2 high-risk chemical facilities. Based on lessons learned and the near completion of the implementation at Tier 1 and Tier 2 high-risk chemical facilities, the Department now seeks to close the last security gap by implementing CFATS Personnel Surety Program at all high-risk chemical facilities. As implemented at Tier 1 and Tier 2 high-risk chemical facilities, the Department will roll out the CFATS Personnel Surety Program in a “phased implementation” to Tier 3 and Tier 4 high-risk chemical facilities.

Updates to Burden Estimate Based on Historical Information

The Department implemented the CFATS Personnel Surety Program in December 2015. Since implementation, the Department has evaluated many of the assumptions it used when estimating the burden estimate of this Information Collection. As a result, several of the assumptions can be revised using actual data rather than assumptions. The burden methodology and revised estimates are described in, “The Department's Methodology in Estimating the Burden for CFATS Personnel Surety Program Information Collection.”

Information Collected About Affected Individuals

This information collection request does not propose changes to the information collected on affected individuals.

Option 1: Collecting Information To Conduct Direct vetting

If high-risk chemical facilities select Option 1 to satisfy RBPS 12(iv) for an affected individual, the following information about the affected individual would be submitted to the Department:

• For U.S. Persons (U.S. citizens and nationals, as well as U.S. lawful permanent residents):

○ Full Name;

○ Date of Birth; and

○ Citizenship or Gender.

• For Non-U.S. Persons:

○ Full Name;

○ Date of Birth;

○ Citizenship; and

○ Passport information and/or alien registration number.

To reduce the likelihood of false positives in matching against records in the Federal Government's consolidated and integrated terrorist watch list, high-risk chemical facilities would also be able to submit the following optional information about an affected individual to the Department:

• Aliases;

• Gender (for Non-U.S. Persons);

• Place of Birth; and/or

• Redress Number.⁶

⁶ For more information about Redress Numbers, please go to http://www.dhs.gov/one-stop-travelers-redress-process#1.

High-risk chemical facilities have the option to create and use the following field(s) to collect and store additional information to assist with the management of an affected individual's records. Any information collected in this field will not be used to support vetting activities.

• User Defined Field(s)

Table 1 summarizes the biographic data that would be submitted to the Department under Option 1.

Table 1—Required and Optional Data for an Affected Individual Under Option 1
Data elements submitted to the department | For a U.S. person | For a non-U.S. person
Full Name | Required.
Date of Birth | Required.
Gender | Must provide Citizenship or Gender | Optional.
Citizenship |  | Required.
Passport Information and/or Alien Registration Number | N/A | Required.
Aliases | Optional.
Place of Birth | Optional.
Redress number | Optional.
User Defined Field(s) | Optional (Not used for vetting purposes).

Option 2: Collecting Information To Use Vetting Conducted Under Other DHS Programs

In lieu of submitting information to the Department under Option 1 for vetting of terrorist ties, high-risk chemical facilities also have the option, where appropriate, to submit information to the Department to electronically verify that an affected individual is currently enrolled in another DHS program that vets for terrorist ties.

To verify an affected individual's enrollment in one of these programs under Option 2, the Department would collect the following information about the affected individual:

• Full Name;

• Date of Birth; and

• Program-specific information or credential information, such as expiration date, unique number or issuing entity (e.g., State for Commercial Driver's License [CDL] associated with a Hazardous Materials Endorsement [HME]).

To reduce the likelihood of false positives, high-risk chemical facilities may also submit the following optional information about an affected individual to the Department:

• Aliases;

• Gender;

• Place of Birth; and/or

• Citizenship.

High-risk chemical facilities have the option to create and use the following field(s) to collect and store additional information to assist with the management of an affected individual's records. Any information collected in this field will not be used to support vetting activities.

• User Defined Field(s)

Table 2 summarizes the biographic data that would be submitted to the Department under Option 2.

Table 2—Required and Optional Data for an Affected Individual Under Option 2
Data Elements Submitted to the Department
Full Name | Required.
Date of Birth | Required.
Program-specific information or credential information, such as expiration date, unique number, or issuing entity | Required.
Aliases | Optional.
Gender | Optional.
Place of Birth | Optional.
Citizenship | Optional.
User Defined Field(s) | Optional (Not used for vetting purposes).

Other Information Collected

The Department may also contact a high-risk chemical facility or its designees to request additional information (e.g., visa information) pertaining to an affected individual in order to clarify suspected data errors or resolve potential matches (e.g., an affected individual has a common name). Such requests will not imply, and should not be construed to indicate, that an affected individual's information has been confirmed as a match to a record of an individual with terrorist ties.

The Department may also collect information provided by individuals or high-risk chemical facilities in support of any adjudication requests under Subpart C of the CFATS regulation,⁷ or in support of any other redress requests.⁸

⁷ See 6 CFR 27.300 et seq.

⁸ More information about access, correction, and redress requests under the Freedom of Information Act and the Privacy Act can be found in Section 7.0 of the Privacy Impact Assessment for the CFATS Personnel Surety Program, dated May 4, 2011, available at https://www.dhs.gov/sites/default/files/publications/privacy-pia-nppd-cfats-2011.pdf.

Request For Exception To The Requirement Under 5 CFR 1320.8(b)(3)

The Department is requesting from OMB an exception for the CFATS Personnel Surety Program to the Paperwork Reduction Act (PRA) notice requirement contained in 5 CFR 1320.8(b)(3), which requires Federal agencies to ensure that their information collections provide certain reasonable notices under the PRA to affected individuals. If this exception is granted, the Department will be relieved of the potential obligation to require high-risk chemical facilities to collect signatures or other positive affirmations of these notices from affected individuals, which would increase burdens.

Whether or not this exception is granted, high-risk chemical facilities must affirm the required privacy notice regarding the collection of personal information has been provided to affected individuals before personal information is submitted to the Department.

The Department's Methodology in Estimating the Burden for CFATS Personnel Surety Program Information Collection Number of Respondents

For the purpose of this collection, the number of respondents is broken down into two groups: “initial respondents” and “annual respondents.”

The “initial respondents” are those affected individuals with existing access at a high-risk chemical facility and will be submitted by the facility after receiving authorization or approval of an SSP requiring the facility to implement measures to comply with RBPS 12(iv). All new burdens associated with initial respondents under this collection will be for Tier 3 and Tier 4 facilities as discussed later in this notice under “(A) Initial Respondents,” Tier 1 and Tier 2 facilities have already submitted initial respondents to the CFATS Personnel Surety Program under the current collection. The burden for “initial respondents” is estimated in this notice under “Total Burden Cost (Capital/Startup)” because the burden imposed by initial respondent submission on high-risk chemical facilities is a one-time cost.

“Annual respondents” are the number of respondents the Department estimates will be submitted each year by high-risk chemical facilities that have completed the initial respondent's submission and are now in the maintenance phase (e.g., adding new affected individuals due to employee hires).

(A) Initial Respondents

The estimated number of high-risk chemical facilities and the average number of respondents is based on historical data collected by the Department since the implementation of the CFATS Personnel Surety Program. The Department estimates that under this collection there are (a) 200 Tier 1 and Tier 2 high-risk chemical facilities that will have to submit information about affected individuals under the current ICR, and (b) 3,700 Tier 3 and Tier 4 high-risk chemical facilities that will submit for the first time under this new collection. Historically, each Authorizer submitted, on average, 180 initial respondents, with each Authorizer responsible for 1.7 high-risk chemical facilities. Dividing 180 affected individuals per Authorizer by 1.7 high-risk chemical facilities results in an average of 106 initial respondents submitted per high-risk chemical facility.

Additionally, the Department recognizes that high-risk chemical facilities that are high risk for a release security issue may take a facility-wide approach rather than an asset-based approach in defining their restricted areas, which may result in a higher number of affected individuals. Therefore, the Department reviewed the number of release sites to ensure the estimated number of respondents for the Tier 3 and Tier 4 high-risk chemical facilities were comparable to the historical data received by the Department since the implementation of the CFATS Personnel Surety Program. The Department found that the release security issues for Tier 1 and Tier 2 high-risk chemical facilities made up 38% of the total Tier 1 and Tier 2 high-risk chemical facility population. For the Tier 3 and Tier 4 high-risk chemical facilities, the release security issue made up 25% of the total Tier 3 and Tier 4 high-risk chemical facility population. Based on these findings, the Department was satisfied that the Tier 1 and Tier 2 high-risk chemical facility historical data provided a valid representation of what the Department can expect from the Tier 3 and Tier 4 high-risk chemical facilities.

Under the current collection, approximately 21,200 initial respondents for Tier 1 and Tier 2 high-risk chemical facilities (200 high-risk Tier 1 and Tier 2 high-risk chemical facilities with an average of 106 initial respondents per high-risk chemical facility) will or have been submitted to the CFATS Personnel Surety Program. The Department assumes that there are no additional burdens associated with initial respondents for Tier 1 and Tier 2 high-risk chemical facilities under this collection because they have already submitted the initial respondents under the current collection.

As described above, the Department intends to implement the CFATS Personnel Surety Program at all high-risk chemical facilities, which will require Tier 3 and Tier 4 high-risk chemical facilities to submit information about affected individuals under the CFATS Personnel Surety Program or to select Option 3 or 4 for CFATS Personnel Surety Program participation that do not involve submission of information to the Department. However, for burden estimates, the Department assumes all Tier 3 and Tier 4 high-risk chemical facilities will select option 1 and/or option 2, which both require information submission. As these high-risk chemical facilities have not previously submitted, all 3,700 Tier 3 and Tier 4 high-risk chemical facilities would be required to submit initial respondents to the CFATS Personnel Surety Program.

The Department intends to implement the CFATS Personnel Surety Program at Tier 3 and Tier 4 high-risk chemical facilities in a phased implementation so that the estimated 3,700 Tier 3 and Tier 4 high-risk chemical facilities are evenly distributed over three years (i.e., 1,233 high-risk chemical facilities each year for three years). This results in an estimated 130,698 initial respondents each year (1,233 high-risk chemical facilities multiplied by 106 submissions per high-risk chemical facility) from Tier 3 and Tier 4 high-risk chemical facilities.

(B) Annual Respondents

The Department estimates the annual respondents based on the annual hires rates of 47.8% for total private industry, as estimated from the Bureau of Labor Statistics (BLS).⁹ Annual hires are used to account for the replacement of employee separations as well as new hires. In the first year of this collection, the Department applies the hires rate to the initial submission of affected individuals submitted from Tier 1 and Tier 2 high-risk chemical facilities under the current collection for the CFATS Personnel Surety Program. In the second and third year of this collection, the Department applies the hires rate to the subsequent total population of affected individuals submitted under the CFATS Personnel Surety Program (i.e., the Tier 1 and Tier 2 high-risk chemical facilities' initial submissions plus the initial submissions received from Tier 3 and Tier 4 high-risk chemical facilities).

⁹ https://www.bls.gov/news.release/archives/jolts_03162017.pdf Table 14

The breakdown of the annual hires for each year of the information collection request is as follows:

• In year one, the number of hires is 10,134 respondents (i.e., 21,200 Tier 1 and Tier 2 initial respondents multiplied by the hires rate of 47.8%).¹⁰

¹⁰ Numbers may not total due to rounding of estimates in the text.

• In year two, the number of hires is 72,607 respondents (i.e., 72,607 Tier 1 and Tier 2 initial respondents plus the number of initial respondents submitted by Tier 3 and Tier 4 high-risk chemical facilities in year one [130,698 affected individuals] multiplied by the hires rate of 47.8%).

• In year three, the number of hires is 135,081 respondents (i.e., 21,200 Tier 1 and Tier 2 initial respondents plus the number of initial respondents submitted by Tier 3 and Tier 4 high-risk chemical facilities in years one and two [261,396 affected individuals] multiplied by the hires rate of 47.8%).

Table 3 presents the annual submissions for the three years.

Table 3—Annual Submissions for Three Years
| Initial respondents (Tier 3 and Tier 4) | Existing population of affected individuals | Hires (existing population of affected individuals multiplied by 47.8%)
Year 1 | 130,698 | 21,200 (Initial Respondents Tier 1 and Tier 2 from current collection) | 10,134
Year 2 | 130,698 | 151,898 (Tier 1 and Tier 2 initial respondents plus year 1 Tier 3 and Tier 4 initial respondents) | 72,607
Year 3 | 130,698 | 282,596 (Tier 1 and Tier 2 initial respondents plus year 1 and year 2 Tier 3 and Tier 4 initial respondents | 135,081
Average | 130,698 |  | 72,607

The number of respondents for the three years was then averaged to come up with the revised annual respondent rate of 72,607 respondents per year (i.e., the sum of 10,134 annual respondents in year one, plus 72,607 annual respondents in year two, plus 135,081 annual respondents in year three, divided by the three years this information collection request covers).

Estimated Time per Respondent

Based on industry feedback and historical data collected on their use of the CFATS Personnel Surety Program application, the Department has estimated the time per respondent to be 5 minutes per submission of a record about an affected individual rather than 30 minutes previously estimated in the current collection. The proposed estimated time per respondent includes the time to edit or remove a record if a high-risk chemical facility opts to subsequently notify the Department that an affected individual no longer has access. Since this estimate is based on current submissions from Tier 1 and Tier 2 high-risk chemical facilities, the Department has chosen an estimate of 10 minutes (0.1667 hours) per record to provide a more conservative estimate.

Annual Burden Hours

To estimate the annual burden hours for this collection, the Department multiplies the number of annual respondents by the estimated time burden of 0.1667 hours (10 minutes), for an estimated annual burden of 12,101 hours (i.e., 0.1667 hours multiplied by 72,607 annual respondents). The one-time burden associated with the submission of initial respondents is considered below under startup costs.

Total Burden Cost (Capital/Startup)

The Department provides access to the CFATS Personnel Surety Program application free of charge and assumes that each high-risk chemical facility already has access to the internet for basic business needs. In addition to the Tier 1 and Tier 2 high-risk chemical facilities at which the CFATS Personnel Surety Program has already been implemented, the Department expects to implement the CFATS Personnel Surety Program at Tier 3 and Tier 4 high-risk chemical facilities upon approval of this collection request. Tier 3 and Tier 4 high-risk chemical facilities will have a one-time requirement to submit information about initial respondents with existing access to the restricted areas or critical assets at the high-risk chemical facility. This one-time cost is estimated here as a startup cost. The Department estimates that under this collection there will be 3,700 Tier 3 and Tier 4 high-risk chemical facilities that will submit initial respondents. To estimate initial startup cost, the Department multiples the number of high-risk chemical facilities by the estimated number of affected individuals per high-risk chemical facility to obtain the total number of initial respondents submitted. The estimated number of initial respondents is 392,094 (i.e., 3,700 Tier 3 and Tier 4 high-risk chemical facilities multiplied by 106 affected individuals per high-risk chemical facility).¹¹ The startup burden of 65,349 hours is subsequently estimated by multiplying the number of initial respondents by the estimated time per respondent (i.e., 392,094 affected individuals multiplied by 0.1667 hours).

¹¹ Values may not total due to rounding.

The one-time startup cost is estimated by multiplying the startup burden by the wage rate of the employee type expected to submit the information about affected individuals to the CFATS Personnel Surety Program. The site security officer's average hourly wage rate of $78.93 was based on an average hourly wage rate of $53.92 ¹² with a benefits multiplier of 1.4639.¹³ Therefore the Department estimates the one-time startup cost of this information request to be $5,158,226 (i.e., 65,349 hours multiplied by $78.93 per hour).¹⁴

¹² The wage used for an SSO equals that of Managers, All (11-9199), with a load factor of 1.4639 to account for benefits in addition to wages https://www.bls.gov/oes/2016/may/oes119199.htm.

¹³ Load factor based on BLS Employer Cost for Employee Compensation, as of June 9, 2017. Load factor = Employer cost for employee compensation ($35.28)/wages and salaries ($24.10) = 1.4639 https://www.bls.gov/news.release/ecec.nr0.htm.

¹⁴ Numbers may not total due to rounding.

Consideration of Other Capital Costs

This information collection request maintains the existing assumptions found in the current information collection request with regard to activities listed in 5 CFR 1320.3(b)(1). Specifically, that 5 CFR 1320.3(b)(1) and 5 CFR 1320.8 require the Department to estimate the total time, effort, or financial resources expended by persons to generate, maintain, retain, disclose, or provide information to or for a Federal agency. Therefore, many costs (e.g., physical modification of the facility layout) a high-risk chemical facility may choose to incur to develop or implement its SSP or ASP should not be accounted for when estimating the capital costs associated with this information collection.

Furthermore, the Department maintains the same assumptions found in the current information collection request with regards to estimating certain high-risk chemical facility capital costs, such as: (1) Capital costs for computer, telecommunications equipment, software, and storage to manage the data collection, submissions, and tracking; (2) capital and ongoing costs for designing, deploying, and operating information technology (IT) systems necessary to maintain the data collection, submissions, and tracking; (3) cost of training high-risk chemical facility personnel to maintain the data collection, submissions, and tracking; and (4) site security officer time to manage the data collection, submissions, and tracking. The Department continues to exclude these costs in accordance with 5 CFR 1320.3(b)(2), which directs Federal agencies to not count the costs associated with the time, effort, and financial resources incurred in the normal course of their activities (e.g., in compiling and maintaining business records) if the reporting, recordkeeping, or disclosure activities are usual and customary.

The Department continues to exclude these usual and customary costs because the time, effort, and financial resources are costs that high-risk chemical facilities incur to conduct background checks for identity, criminal history, and legal authorization to work under 6 CFR 27.230(a)(12)(i)-(iii), and also under various other Federal, State, or local laws or regulations.

Recordkeeping Burden

The recordkeeping costs, if any, to create, keep, or retain records pertaining to background checks as part of a high-risk chemical facility's SSP or ASP, are properly estimated in the recordkeeping estimates associated with the SSP Instrument under Information Collection 1670-0007.

Total Annual Burden Cost

The 2007 CFATS Regulatory Evaluation assumed that Site Security Officers are responsible for submitting information to the Department. For the purpose of this notice, the Department maintains this assumption.

Therefore, to estimate the total annual burden, the Department multiplied the annual burden of 12,101 hours by the average hourly wage rate of Site Security Officers of $78.93 and then added the one-time startup cost associated with the initial respondents. Therefore, the total annual burden cost for the CFATS Personnel Surety Program is $955,191 (12,101 total annual burden hours multiplied by $78.93 per hour). For the three year period for which this collection will be approved, the total cost burden would be $8,023,798 ($955,191 annual cost multiplied by 3 + $5,158,226 startup cost). The annual burden for this collection over the three year period is estimated at $2,674,599 ($8,023,798 total cost/3 years).¹⁵

¹⁵ All calculations may not total due to rounding.

Solicitation of Comments

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Title of Collection: Chemical Facility Anti-Terrorism Standards (CFATS) Personnel Surety Program.

OMB Control Number: 1670-0029.

Instrument: CFATS Personnel Surety Program.

Frequency: “Other”.

Affected Public: Business or other for-profit.

Number of Annual Respondents: 72,607 respondents (estimate).

Estimated Time per Respondent: 0.1667 hours (10 minutes).

Total Annual Burden Hours: 12,101 hours.

Total Annual Burden Cost (Capital/Startup): $1,719,409.

Total Annual Burden Cost: $955,191.

Total Recordkeeping Burden: $0.

David Epperson,
Chief Information Officer.

[FR Doc. 2017-27519 Filed 12-26-17; 8:45 am]

BILLING CODE 910-9P-P